POSTAL RATE COMMISSION

Sunshine Act Meetings Notice

Agency: Postal Rate Commission.

Time and Date: Thursday, December 14, 2006, at 10 a.m.

Place: Commission conference room 901 New York Avenue, NW., Suite 200, Washington, DC 20268-0001.

Status: Closed.

Matters To Be Considered: Decision in Docket No. N2006-1, Evolutionary Network Realignment.

Contact Person For More Information: Stephen L. Sharfman, General Counsel, Postal Rate Commission, 202-789-6820 or ssharfman@prc.gov.

Dated: December 7, 2006.
Steven W. Williams,
Secretary.

[FR Doc. 06-9640 Filed 12-7-06; 12:38 pm]

BILLING CODE 7710-FW-M